DEPARTMENT OF COMMERCE

National Oceanic and Atmospheric Administration

RIN 0648-XG988

Fisheries of the Caribbean, Gulf of Mexico, and South Atlantic; Snapper-Grouper Fishery Off the Southern Atlantic States, Dolphin and Wahoo Fishery Off the Atlantic States, and Coral and Coral Reefs Fishery in the South Atlantic; Exempted Fishing Permit

AGENCY: National Marine Fisheries Service (NMFS), National Oceanic and Atmospheric Administration (NOAA), Commerce.

ACTION: Notice of receipt of an application for an exempted fishing permit; request for comments.

SUMMARY: NMFS announces the receipt of an application for an exempted fishing permit (EFP) from Julie Johnson, on behalf of the North Carolina Aquariums at Roanoke Island, Pine Knoll Shores, Fort Fisher, and Jennette's Pier, North Carolina. If granted, the EFP would authorize North Carolina Aquariums to collect, with certain conditions, various species of snapper-grouper, dolphin, and live rock in Federal waters along the North Carolina coast. The specimens would be used in educational exhibits displaying North Carolina native species at the aquariums.

DATES: Written comments must be received on or before June 24, 2019.

ADDRESSES: You may submit comments, identified by “NOAA-NMFS-2019-0051”, by any of the following methods:

• Electronic Submission: Submit all electronic public comments via the Federal e-Rulemaking Portal. Go to www.regulations.gov/#!docketDetail; D=NOAA-NMFS-2019-0051, click the “Comment Now!” icon, complete the required fields, and enter or attach your comments.

• Mail: Submit written comments to Frank Helies, Southeast Regional Office, NMFS, 263 13th Avenue South, St. Petersburg, FL 33701.

Instructions: Comments sent by any other method, to any other address or individual, or received after the end of the comment period, may not be considered by NMFS. All comments received are a part of the public record and will generally be posted for public viewing on www.regulations.gov without change. All personal identifying information (e.g., name, address, etc.), confidential business information, or otherwise sensitive information submitted voluntarily by the sender will be publicly accessible. NMFS will accept anonymous comments (enter“N/A” in the required fields if you wish to remain anonymous).

FOR FURTHER INFORMATION CONTACT: Frank Helies, 727-824-5305; email frank.helies@noaa.gov.

SUPPLEMENTARY INFORMATION: The EFP is requested under the authority of the Magnuson-Stevens Fishery Conservation and Management Act (16 U.S.C. 1801 et seq.), and regulations at 50 CFR 600.745(b) concerning exempted fishing.

The North Carolina Aquariums have completed identical work under a previous EFP that was issued by NMFS on April 30, 2014, and recently expired on April 30, 2019. NMFS did not receive any public comments on the previous EFP notice of receipt of an application (79 FR 16301; March 25, 2014).

This action involves activities covered by regulations implementing the Fishery Management Plans (FMP) for the Snapper-Grouper Fishery of the South Atlantic Region, the Dolphin and Wahoo Fishery of the Atlantic Region, and the FMP for Coral, Coral Reefs and Live/Hardbottom Habitat of the South Atlantic Region. The applicant requests authorization to collect a variety of species in the snapper-grouper complex, dolphin, and live rock. Specific species and quantities of each species, listed by common name, to be collected each year of a 5-year period include a maximum of 16 red hind, 16 rock hind, 16 graysby, 24 red porgy, 24 black sea bass, 16 coney, 16 scamp, 3 snowy grouper, 16 red grouper, 16 gag grouper, 9 yellowedge grouper, 9 yellowfin grouper, 16 yellowmouth grouper, 36 vermilion snapper, 20 red snapper, 36 yellowtail snapper, 24 amberjack (lesser and greater amberjack combined), 24 almaco jack, 100 bar jack, 24 dolphin, and 50 lb (22.7 kg) of live rock.

Specimens would be collected in Federal waters from 3 miles (4.8 km) offshore out to 100 fathoms (182 m), from 33°10′ N lat. to 36°30′ N lat. along the coast of North Carolina. The EFP would authorize sampling operations to be conducted on vessels to be named by the North Carolina Aquariums and designated in the EFP. The project proposes to use hook-and-line gear, no more than 5 black sea bass pots and 10 minnow traps to collect fish, and SCUBA to collect live rock by hand. Most collections would be conducted year-round for a period of 5 years, commencing on the date of issuance of the EFP. Black sea bass pots and minnow traps would be deployed from the months of May through October each year of the EFP. The soak time for both pots and traps would vary from 4 to 8 hours up to 2 days. The majority of the pots and traps would be set in the morning and retrieved at the end of the same day; however, if the weather is suitable, the pots and traps may be left overnight for no more than one night at a time. Pots and traps would be retrieved by hand to reduce barotrauma, and would be deployed in hard bottom and ledge habitats offshore.

The intent of the request is to incorporate North Carolina native species into the educational exhibits at four state aquariums located on Roanoke Island, Pine Knoll Shores, Fort Fisher, and Jennette's Pier, North Carolina. The aquariums use these displays of native North Carolina habitats and species to teach the public about conservation of these resources.

NMFS finds this application warrants further consideration. Based on a preliminary review, NMFS intends to issue an EFP. Possible conditions the agency may impose on this permit, if it is indeed granted, include but are not limited to, a prohibition of conducting research within marine protected areas, marine sanctuaries, special management zones, or artificial reefs without additional authorization. Additionally, NMFS will require any sea turtles taken incidentally during the course of fishing or scientific research activities to be handled with due care to prevent injury to live specimens, observed for activity, and returned to the water. To acquire live rock for the aquariums, the applicant has the option to either purchase aquacultured live rock from a commercial source, or if the EFP is issued, the applicant may collect up to 50 lb (22.7 kg) of live rock from the Federal waters off North Carolina, but immediately replace it with an equal weight of substrate suitable to support the culture of live rock. A final decision on issuance of the EFP will depend on NMFS' review of public comments received on the application, consultations with the affected state, the South Atlantic Fishery Management Council, and the U.S. Coast Guard, and a determination that it is consistent with all applicable laws.

Authority: 16 U.S.C. 1801 et seq.

Dated: May 21, 2019.
Jennifer M. Wallace,
Acting Director, Office of Sustainable Fisheries, National Marine Fisheries Service.

[FR Doc. 2019-10920 Filed 5-23-19; 8:45 am]

BILLING CODE 3510-22-P